DEPARTMENT OF COMMERCE

National Oceanic and Atmospheric Administration

RIN 0648-XC607

Western Pacific Fishery Management Council; Public Meeting

AGENCY: National Marine Fisheries Service (NMFS), National Oceanic and Atmospheric Administration (NOAA), Commerce.

ACTION: Notice of public meetings.

SUMMARY: The Western Pacific Fishery Management Council (Council) will hold meeting of its Pelagics Plan Team (PPT) and Archipelagic Fishery Ecosystem Plan Teams, in Honolulu, HI, to discuss fishery issues and develop recommendations for future management.

DATES: The meeting of the PPT will be held between April 23 and 24, 2013, from 8:30 a.m. to 5 p.m., and the Archipelagic Fishery Ecosystem Plan Teams will be held between April 22 and April 25, 2012, 8:30 a.m. to 5 p.m.

ADDRESSES: The meetings will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet at the Council Pelagics Conference Room to discuss the following agenda items:

Tuesday, April 23, 2013, 8.30 a.m.

1. Introduction

2. Annual Report

a. Review 2012 Annual Report modules and recommendations

i. Commonwealth of the Northern Mariana Islands (CNMI)

ii. American Samoa

iii. Guam

iv. Hawaii

v. International

vi. Recreational

b. 2012 Annual Report region wide recommendations

Wednesday, April 24, 2013, 8.30 a.m.

3. Ninth Regular Session of the Western and Central Pacific Fishery Commission

4. South Pacific albacore and American Samoa longline costs earnings study

5. North Pacific striped marlin

6. Pacific bluefin tuna

7. Cook Islands/Forum Fisheries Agency sub-regional office in Pago Pago

8. Update on false killer whale Take Reduction Plan

9. Biological opinion for deep set tuna fishery

10. Outstanding Fishery Ecosystem Plan amendments

11. Other business

12. Public comment

13. Pelagic Plan Team Recommendations

The Hawaii and Pacific Remote Island Areas (PRIAS) Archipelago Fishery Ecosystem Plan Team Meeting will meet at the Council's Conference Room to discuss the following agenda items:

Tuesday, April 22, 2013, 8:30 a.m.

1. Welcome and Introductions

2. Approval of the Agenda

3. Assignment of Rapporteurs

4. Status of Fishery Monitoring Programs and Research Projects

A. Coral Reef Fisheries

B. Crustacean Fisheries

C. Precious Coral Fisheries

D. Bottomfish Fisheries

i. Main Hawaiian Islands (MHI) Annual Catch Target (ACT) Monitoring

ii. Market Delay Amendment

E. National Marine Fisheries Service (NMFS) Pacific Islands Regional Office (PIRO PIRO Administrative Activities

F. Discussions

5. Improving Annual Catch Limit (ACL) specifications and stock assessments

A. Recalculation of gold coral Maximum Sustainable Yield (MSY)

B. New black coral research to support ACL re-specification

C. Discussions

6. Data collection and reporting issues

A. Recreational fishing updates

B. Update on Omnibus Data Collection Improvement Proposal

C. Discussions

7. Review of the Council Five-Year Research Priorities

8. Update Cooperative Research and developing priorities

9. General Discussions

10. Other Business

11. Public Comment

12. Hawaii and PRIA Archipelago Plan Team recommendations

The Joint American Samoa and Marianas Archipelago Fishery Ecosystem Plan Team will meet at the Council's Conference Room to discuss the following agenda items:

Wednesday-Thursday, April 23-24, 2013, 8:30 a.m.-5 p.m.

13. Welcome and Introductions

14. Approval of the Agenda

15. Assignment of Rapporteurs

16. Report on previous Plan Team recommendations and Council actions

17. Review of the Status of the Western Pacific Insular Fisheries

A. Commonwealth of Northern Mariana Islands

i. Coral reef fisheries

ii. Bottomfish fisheries

iii. Potential use of Bio-Sampling data to improve fishery data

iv. Update of fishery dependent and independent studies

v. Administrative and regulatory updates

vi. Discussions

B. Guam

i. Coral reef fisheries

ii. Bottomfish fisheries

iii. Potential use of Bio-Sampling data to improve fishery data

iv. Update of fishery dependent and independent studies

v. Administrative and regulatory updates

vi. Discussions

C. American Samoa

i. Coral reef and crustacean fisheries

ii. Bottomfish fisheries

iii. Potential use of Bio-Sampling data to improve fishery

iv. Update of fishery dependent and independent studies

v. Administrative and regulatory updates

vi. Discussions

18. Review of the Council Five-Year Research Priorities

19. Update of Cooperative Research and Developing Priorities and Projects

20. General Discussions

21. Other Business

22. Public Comment

23. Annual Catch Limits

A. Evaluating 2012 catches relative to its respective ACLs

B. Using model based approaches to determine MSY and depletion-corrected average catches for Acceptable Biological Catch (ABC) specification

C. Discussions

24. Improving Fishery Data Collection in the Western Pacific Region

A. Update on Status of Fishery Data Collection Improvement Actions

B. Data collection in military installations in Guam

C. Update on the status of the Omnibus Fishery Data Collection Improvement Proposal

D. Using Bio-Sampling data to enhance creel surveys

25. Protected Species

A. Update on the Endangered Species Act (ESA) Petitioned Species

i. Pacific humphead wrasse

ii. Eight species of coral reef fish

26. Other Business

27. Public Comments

28. Rapporteur reports

29. General discussions and Plan Team recommendations

Plan Team Training: A Brief Introduction to Length-Based Mortality Assessment for Coral Reef Fishes

30. Length-based stock assessment approach: pros and cons, some examples from Florida, Caribbean, and Hawaii.

31. Age and growth of tropical boney fishes. Age at length relationship (e.g., von Bertalanffy). Fitting growth curves. Allometric (Weight-Length) growth.

32. Mortality rates and abundance estimation. Development of exponential mortality model, average population size, and population biomass models. Assessing life span, maximum age and natural mortality, size-age of first capture, selectivity.

33. Integrating the parts. Model development and assessing exploitation rates via average size in the exploited phase of the population.

34. Fisheries-independent and fisheries-dependent surveys to obtain average length in the exploited phase.

35. Computer Laboratory—Estimating mortality rates using a length-based mortality model in Excel.

The order in which the agenda items are addressed April change. The PPT will meet as late as necessary to complete scheduled business.

Although non-emergency issues not contained in this agenda April come before the PPT for discussion, those issues April not be the subject of formal action during these meetings. Plan Team action will be restricted to those issues specifically listed in this document and any issue arising after publication of this document that requires emergency action under section 305(c) of the Magnuson-Stevens Fishery Conservation and Management Act, provided the public has been notified of the Councils intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 2, 2013.
William D. Chappell,
Acting Deputy Director, Office of Sustainable Fisheries, National Marine Fisheries Service.

[FR Doc. 2013-07954 Filed 4-4-13; 8:45 am]

BILLING CODE 3510-22-P